DEPARTMENT OF COMMERCE

National Oceanic and Atmospheric Administration

RIN 0648-XX015

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Massachusetts Division of Marine Fisheries and the University of Massachusetts, Dartmouth, School for Marine Science and Technology contains all of the required information and warrants further consideration. This Exempted Fishing Permit would allow four charter/party vessels to collect sub-legal Atlantic cod. Regulations under the Magnuson-Stevens Fishery Conservation and Management Act require publication of this notice to provide interested parties the opportunity to comment on applications for proposed Exempted Fishing Permits.

DATES: Comments must be received on or before October 23, 2019.

ADDRESSES: You may submit written comments by any of the following methods:

• Email: NMFS.GAR.EFP@NOAA.gov. Include in the subject line “DMF/SMAST cod study EFP.”

• Mail: Michael Pentony, Regional Administrator, NMFS, Greater Atlantic Regional Fisheries Office, 55 Great Republic Drive, Gloucester, MA 01930. Mark the outside of the envelope “DMF/SMAST cod study EFP.”

FOR FURTHER INFORMATION CONTACT: Maria Vasta, Fishery Management Specialist, 978-281-9196.

SUPPLEMENTARY INFORMATION:

The Massachusetts Division of Marine Fisheries (DMF) and the University of Massachusetts, Dartmouth, School for Marine Science and Technology (SMAST) submitted a complete application for an Exempted Fishing Permit (EFP) on August 29, 2019, to conduct a study of Atlantic cod on and around Cox Ledge in southern New England. Data collected through this EFP would help scientists better characterize spawning seasons, sex ratios, demographics, genetics, and growth rates of cod around the Deepwater Wind Lease Area. The EFP would exempt four charter/party vessels from the following Federal regulations, for sampling purposes only:

1. Recreational minimum fish size limit for Atlantic cod specified at 50 CFR 648.89(b); and

2. Recreational Atlantic cod possession limit specified at § 648.89(c).

Researchers from DMF and/or SMAST would accompany the participating vessels on approximately 24 for-hire recreational fishing trips during November 2019-August 2021. During each sampling trip, customers would capture Atlantic cod (and other species) using standard recreational rod and reel gear. Biological samples would be collected from legal (greater than or equal to 21 inches) cod that are retained by customers. Sub-legal (less than 21 inches) cod would also be temporarily retained for tagging or retained for biological sampling.

Once on board, the physical condition of each sub-legal cod would be assessed. Sub-legal cod that are expected to survive would be temporarily retained, measured, tagged with conventional t-bar tags, and returned to the ocean. Sub-legal cod that are not expected to survive (e.g., severe barotrauma, major injuries) would be retained for biological sampling. Biological samples would include length measurements, otoliths, fin clips, and tissue samples.

Approximately 240 sub-legal cod (10 individuals per trip) would be tagged and approximately 120-240 sub-legal cod (5-10 individuals per trip) would be retained for biological sampling as part of this research. DMF and/or SMAST personnel would be on board the vessels directing sampling activities during all trips taken under this EFP, and exemptions would only apply to fish being collected for the research. Charter/party customers would not retain undersize cod.

If approved, DMF or SMAST may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 3, 2019.
Jennifer M. Wallace,
Acting Director, Office of Sustainable Fisheries, National Marine Fisheries Service.

[FR Doc. 2019-21917 Filed 10-7-19; 8:45 am]

BILLING CODE 3510-22-P